ENVIRONMENTAL PROTECTION AGENCY

40 CFR Part 131

[EPA-HQ-OW-2007-93; FRL-8716-1]

Withdrawal of Federal Antidegradation Policy for All Waters of the United States Within the Commonwealth of Pennsylvania

AGENCY: Environmental Protection Agency (EPA).

ACTION: Proposed rule.

SUMMARY: EPA is proposing to withdraw the federal antidegradation policy for all waters of the United States within the Commonwealth of Pennsylvania. We will withdraw the federal antidegradation policy to allow Pennsylvania to implement its own antidegradation policy. Pennsylvania has adequately demonstrated that its antidegradation policy protects all waters of the United States within the Commonwealth at a level consistent with the federal requirements. Therefore, the federal antidegradation policy is redundant. In the “Rules and Regulations” section of this Federal Register, we are withdrawing the federal antidegradation policy for waters within the Commonwealth of Pennsylvania as a direct final rule without a prior proposed rule. If we received no adverse comment, we will not take further action on this proposed rule.

DATES: Written comments must be received by October 15, 2008.

ADDRESSES: Submit your comments, identified by Docket Id. No. EPA-HQ-OW-2007-0093, by mail to: Water Docket, USEPA, Mailcode: 2822T, 1200 Pennsylvania Ave., NW., Washington, DC 20460. Comments may also be submitted electronically or through hand delivery/courier by following the detailed instructions in the ADDRESSES section of the direct final rule located in the rules section of this Federal Register.

FOR FURTHER INFORMATION CONTACT: Caroline Whitehead at EPA Headquarters, Office of Water, 1200 Pennsylvania Ave, NW, Mail Code 4305T, Washington, DC 20460 (telephone: 202-566-2907, fax: 202-566-0409 or e-mail: whitehead.caroline@epa.gov) or Denise Hakowski at EPA Region 3, 1650 Arch Street, Mail Code 3WP30, Philadelphia, PA 19103 (telephone: 215-814-5726, fax: 215-814-2318 or e-mail: hakowski.denise@epa.gov).

SUPPLEMENTARY INFORMATION: For further information, please see the information provided in the direct final rule that is located in the “Rules and Regulations” section of this Federal Register publication.

I. Why Is EPA Issuing This Proposed Rule?

This document proposes to take action on withdrawing the federal antidegradation policy for the Commonwealth of Pennsylvania because Pennsylvania has adequately demonstrated that its antidegradation policy protects all waters of the United States at a level consistent with the federal requirements. We have published a direct final rule withdrawing the federal antidegradation policy for the Commonwealth of Pennsylvania in the “Rules and Regulations” section of this Federal Register because we view this as a noncontroversial action and anticipate no adverse comment. We have explained our reasons for this withdrawal in the preamble to the direct final rule.

If we receive no adverse comment, we will not take further action on this proposal rule. If we receive adverse comment, we will withdraw the direct final rule and it will not take effect. We will address all public comments in a subsequent final rule based on this proposed rule.

We will not institute a second comment period on this action. Any parties interested in commenting must do so at this time. For the various statutes and executive orders that require findings for rulemaking, EPA incorporates the findings from the direct final rulemaking into this companion notice for the purpose of providing public notice and opportunity for comment. For further information, please see the information provided in the ADDRESSES section of this document.

List of Subjects in 40 CFR Part 131

Environmental protection, Antidegradation, Water quality standards.

Dated: September 9, 2008.
Stephen L. Johnson,
Administrator.

[FR Doc. E8-21463 Filed 9-12-08; 8:45 am]

BILLING CODE 6560-50-P